DEPARTMENT OF AGRICULTURE

Forest Service

Garver EIS; Kootenai National Forest, Lincoln County, Montana

AGENCY: Forest Service, USDA.

ACTION: Notice of intent to prepare an environmental impact statement.

SUMMARY: The Forest Service will prepare an Environmental Impact Statement (EIS) for a proposal to improve forest health and wildlife habitat, reduce urban interface fuels, and make access management changes to improve grizzly bear habitat. The project is located on the Three Rivers Ranger District, Kootenai National Forest, Lincoln County, Montana, approximately 30 air miles northeast of Troy, Montana.

Scoping Comment Dates: Comments concerning the scope of the analysis should be received by June 17, 2002.

ADDRESSES: Written comments and suggestions concerning the scope of the analysis should be sent to Michael L. Balboni, District Ranger, Three Rivers Ranger District, 1437 Hwy 2, Troy, MT 59935.

FOR FURTHER INFORMATION CONTACT: Kathy Mohar, Team Leader, Three Rivers Ranger District, 1436 Hwy 2, Troy, MT 59935. Phone: (406) 295-4693.

SUPPLEMENTARY INFORMATION: The project area is approximately 43,096 acres and is located in portions of T36N, R32W; T36N; R31W; T37N; R32W; and T37N, R31W, PMM, Lincoln County, Montana. The project area encompasses the West Fork Yaak River, Pete Creek, Lap Creek, Waper Creek, and Mud Creek, as well as several small drainages that are tributary to the Yaak River. The West Fork Yaak Inventoried Roadless Area is located along the north and western border of this project area.

The purpose and need for this project is to: (1) Improve and Maintain Forest Health; (2) Improve and Maintain Winter Range Conditions; (3) Improve and Maintain Old Growth Characteristics; (4) Reduce Fuels In The Wildlife Urban Interface; (5) Improve Growing Conditions and Long-Term Management Options for Overstocked Sapling Pole Stands; (6) Improve Quality and Quantity of Grizzly Bear Habitat; and (7) Contribute Forest Products to the Economy.

To meet the purpose and need, this project proposes treatments to manage for vegetative conditions that are most suitable to a fire-dependent ecosystem, and in the long term to encourage more resilient and sustainable forest conditions. Intermediate harvest treatments are proposed where forest conditions are generally healthy but some undesirable trends have been noted. Regeneration harvest methods would be implemented in areas with high levels of insect and disease, uniform mature lodgepole pine stands, and/or where restoration of species at risk are identified. This treatment may also be used in site-specific areas where small forage openings would be created for the benefit of big games species. Precommercial thinning is proposed for overstocked sapling/pole stands.

Mechanical treatments and/or burning would be used in other areas to reduce fuels, including urban interface areas, and to improve big game habitat. Burning is proposed for the Dusty Peak area within the West Fork Yaak Inventoried Roadless Area and in designated old growth.

Access management changes are proposed with this project to improve grizzly bear security and habitat conditions. Best Management Practices, including activities such as outsloping, waterbarring, and culvert replacement would be applied to haul roads being used for this project.

Range of Alternatives

The Forest Service will consider a range of alternatives. One of these will be the “no action” alternative in which none of the proposed activities will be implemented. Additional alternatives will examine varying levels and location for the proposed activities to achieve the proposal's purposes, as well as to respond to the issues and other resource values.

Public Involvement and Scoping

The public is encouraged to take part in the process and to visit with Forest Service officials at any time during the analysis and prior to the decision. The Forest Service will be seeking information, comments, and assistance from Federal, State, and local agencies, and other individuals or organizations that may be interested in, or affected by, the proposed action. This input will be used in preparation of the draft and final EIS. The scoping process will include:

1. Identifying potential issues.

2. Identifying major issues to be analyzed in depth.

3. Identifying alternatives to the proposed action.

4. Exploring additional alternatives that will be derived from issues recognized during scoping activities.

5. Identifying potential environmental effects of this project and alternatives (i.e. direct, indirect, and cumulative effects and connected actions).

Estimated Dates for Filing:

The Draft EIS is expected to be filed with the Environmental Protection Agency (EPA) and to be available for public review in July 2001. At that time EPA will publish a Notice of Availability of the draft EIS in the Federal Register. The comment period on the draft EIS will be 45 days from the date the EPA publishes the Notice of Availability in the Federal Register. It is very important that those interested in the management of this area participate at that time.

The final EIS is scheduled to be completed in September 2001. In the final EIS, the Forest Service is required to respond to comments and responses received during the comment period that pertain to the environmental consequences discussed in the draft EIS and to applicable laws, regulations, and policies considered in making a decision regarding the proposal.

Reviewer's Obligations

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider and respond to them in the final EIS.

To be must helpful, comments on the draft EIS should be as specific as possible and may address the adequacy of the statement or the merit of the alternatives discussed. Reviewers may wish to refer to the Council on Environmental Quality regulations for implementing the procedural provisions of the National Environmental Policy Act at 40 CFR 1503.3 in addressing these points.

Responsible Official

The District Ranger of the Three Rivers Ranger District, Michael L. Balboni, is the Responsible Official. As Responsible Official, he will decide if the proposed project will be implemented and will document the decision and reasons for the decision in the Record of Decision.

Dated: May 6, 2002.
Cami Winslow,
Acting Forest Supervisor, Kootenai National Forest.

[FR Doc. 02-11829 Filed 5-10-02; 8:45 am]

BILLING CODE 3410-11-M